NUCLEAR REGULATORY COMMISSION

10 CFR Part 73

[NRC-2009-0163]

RIN 3150-AI64

Physical Protection of Irradiated Reactor Fuel in Transit Extension of Comment Period

AGENCY: Nuclear Regulatory Commission.

ACTION: Proposed rule: Extension of comment period.

SUMMARY: On October 13, 2010 (75 FR 62695), the U.S. Nuclear Regulatory Commission (NRC or the Commission) published for public comment a proposed rule to amend its security regulations in title 10 of the Code of Federal Regulations (10 CFR) part 73 pertaining to the transport of irradiated reactor fuel (for purposes of this rulemaking, the terms “irradiated reactor fuel” and “spent nuclear fuel” (SNF) are used interchangeably). This proposed rule would establish generically applicable security requirements similar to those previously imposed by Commission orders issued after the terrorist attacks of September 11, 2001. The proposed rule would establish the acceptable performance standards and objectives for the protection of spent nuclear fuel shipments from theft, diversion, or radiological sabotage. The proposed amendments would apply to those licensees authorized to possess or transport spent nuclear fuel. The proposed security requirements would also address, in part, a petition for rulemaking from the State of Nevada (PRM-73-10) that requests that NRC strengthen the regulations governing the security of spent nuclear fuel shipments against malevolent acts. The public comment period for this proposed rule was scheduled to expire on January 11, 2011. The NRC has determined that additional time is needed for public review of the potential impacts of the proposed requirements. In order to allow the public sufficient time to review and comment on the proposed rule, the NRC has decided to extend the comment period until April 11, 2011.

DATES: The comment period has been extended and expires on April 11, 2011. Comments received after this date will be considered if it is practical to do so. The NRC is only able to assure consideration of comments received on or before this date.

ADDRESSES: Please include Docket ID: NRC-2009-0163 in the subject line of your comments. For instructions on accessing documents related to this action, see “Submitting Comments and Accessing Information” in the SUPPLEMENTARY INFORMATION section of this document. You may submit comments by any one of the following methods.

Federal Rulemaking Web site: Go to http://www.regulations.gov and search for documents filed under Docket ID: NRC-2009-0163. Address questions about NRC dockets to Carol Gallagher, telephone: 301-492-3668, e-mail: Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand-deliver comments to: 11555 Rockville Pike, Rockville, Maryland 20852, between 7:30 a.m. and 4:15 p.m. Federal workdays. (Telephone 301-415-1677).

Fax comments to: Secretary, U.S. Nuclear Regulatory Commission at 301-415-1101.

FOR FURTHER INFORMATION CONTACT: Cardelia Maupin, Office of Federal and State Materials and Environmental Management Programs, U.S. Nuclear Regulatory Commission, Washington, DC 20555-0001, telephone: 301-415-2312, e-mail: Cardelia.Maupin@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee publicly available documents at the NRC's PDR, Room O-1 F21, One White Flint North, 11555 Rockville Pike, Rockville, Maryland.

NRC's Agency-wide Document Access and Management System (ADAMS): Publicly available documents created or received at NRC are available electronically at the NRC's Electronic Reading Room at http://www.nrc.gov/reading-rm/adams.html. From this page, the public can gain entry into ADAMS, which provides text and image files of the NRC's public documents. If you do not have access to ADAMS or if there are problems in accessing the documents located in ADAMS, contact the NRC's PDR reference staff at 1-800-397-4209, or 301-415-4737, or by e-mail to PDR.Resource@nrc.gov.

Federal Rulemaking Web site: Public comments and supporting materials related to this proposed rule can be found at http://www.regulations.gov by searching on Docket ID: NRC-2009-0163.

Document | PDR | ADAMS | Web
Environmental Assessment | X | ML092710448 | X
Regulatory Analysis | X | ML102710278 | X
PRM-73-10 | X | ML092540603 | X

Discussion

The NRC published a proposed rule that would amend its regulations in 10 CFR part 73 to enhance the security requirements that apply to the transportation of spent nuclear fuel. The proposed rule would establish generically applicable security requirements similar to those previously imposed by Commission orders issued after the terrorist attacks of September 11, 2001. The proposed rule would also add several new requirements not derived directly from the security order requirements, but developed as a result of insights gained by performing security assessments of potential security vulnerabilities associated with spent nuclear fuel in transit. The proposed rule would establish the acceptable performance standards and objectives for the protection of spent nuclear fuel shipments from theft, diversion, or radiological sabotage. The proposed amendments would apply to those licensees authorized to possess or transport spent nuclear fuel. The proposed security requirements would also address, in part, a petition for rulemaking from the State of Nevada (PRM-73-10) that requests that NRC strengthen the regulations governing the security of spent nuclear fuel shipments against malevolent acts.

The proposed rule was published on October 13, 2010 (75 FR 62695) and the public comment period was scheduled to expire on January 11, 2011. The NRC has determined that additional time is needed for public review of the potential impacts of the proposed requirements. In order to allow the public sufficient time to review and comment on the proposed rule, the NRC has decided to extend the comment period until April 11, 2011.

Dated at Rockville, Maryland, this 4th day of January 2011.
For the Nuclear Regulatory Commission.
Andrew L. Bates,
Acting Secretary of the Commission.

[FR Doc. 2011-214 Filed 1-7-11; 8:45 am]

BILLING CODE 7590-01-P